DEPARTMENT OF HEALTH AND HUMAN SERVICES

Office of Inspector General

Program Exclusions: November 2000

AGENCY: Office of Inspector General, HHS.

ACTION: Notice of program exclusions.

During the month of November 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, City, State | Effective date
Civil Monetary Penalty
Valiente, Jose G., Miami, FL | 11/06/2000
Program-Related Convictions
Aquino, Nilvio R., Eglin AFB, FL | 12/20/2000
Bassett, Douglas Allen, Fort Wayne, IN | 12/20/2000
Camacho, Raul, Hialeah, FL | 12/20/2000
Chromey, Paul Anthony, W. Pittson, PA | 12/20/2000
Costanzo, Patricia A., Palm Bay, FL | 12/20/2000
Curtis, Lorraine Edith, Bloomington, CA | 12/20/2000
Faddock, William, Peachtree City, GA | 12/20/2000
Favela, Ricardo, Whittier, CA | 12/20/2000
Giller, Leonid, Edison, NJ | 12/20/2000
Gray, Robert Bruce, Ft. Lauderdale, FL | 12/20/2000
Gray, Leslie Kenney, Richmond, VA | 12/20/2000
Harrington, William, Coleman, FL | 12/20/2000
Harris, Gloria A., East Point, GA | 12/20/2000
Hollander, Alexander, Flushing, NY | 12/20/2000
Isaacson, Yoram, Tehachapi, CA | 12/20/2000
Isaacson, Joseph, Los Angeles, CA | 12/20/2000
Johnson, Jeffrey, Rochester, NY | 12/20/2000
Johnson, Linda, Vero Beach, FL | 12/20/2000
Karu, Ron, Avenal, CA | 12/20/2000
Lamar, Magaline Eddings, Fresno, CA | 12/20/2000
Lewis, Terry Lamond, Rialto, CA | 12/20/2000
Lopez, Gloria E., Coleman, FL | 12/20/2000
Mack, Cedric Lamar, College Park, GA | 12/20/2000
Mason, Paula J., Richmond, VA | 12/20/2000
Mikhaylova, Alla, Flushing, NY | 12/20/2000
Molina, David Jr., Brooklyn, NY | 12/20/2000
Olmos, Leonardo, Miami, FL | 12/20/2000
Pichardo, Juan A., New York, NY | 12/20/2000
Pinkney, Brandi Raquel, Rowland Hgts, CA | 12/20/2000
Poli, Catherine E., Delray Beach, FL | 12/20/2000
Rampersad, Lakshminarine, Landing, NJ | 12/20/2000
Rizzo, Anthony T., Batavia, NY | 12/20/2000
Rome, Stanford B., Valdosta, GA | 12/20/2000
Rubenich, Ervand Doganian, Long Beach, CA | 12/20/2000
Schwartz, Edward, Redlands, CA | 12/20/2000
Stallings, Allen J., Wallace, NC | 12/20/2000
Stan, Joseph N., Beverly Hills, CA | 12/20/2000
Weiselberg, Alan, Miami, FL | 12/20/2000
Williams, Sandra Lynette, Ontario, CA | 12/20/2000
Zak, Felix, Brooklyn, NY | 12/20/2000
Zarza, Jose, Blounstown, FL | 12/20/2000
Felony Control Substance Conviction
Walters, Darlene Danielle, Tupelo, MS | 12/20/2000
Patient Abuse/Neglect Convictions
Adams, Yolanda M., Magee, MS | 12/20/2000
Anderson, Margaret B., Columbia, SC | 12/20/2000
Ducksworth, Coquetties, Taylorsville, MS | 12/20/2000
Feliciano, Aja K., Hartsville, SC | 12/20/2000
Fisher, Frederick Antonio, Corcoran, CA | 12/20/2000
Gray, Dewayne, Jackson, MS | 12/20/2000
Hopkins, Judith, Jackson, MS | 12/20/2000
Johnson, Bertha, Kansas City, MO | 12/20/2000
Larow, Mark L., Rome, NY | 12/20/2000
Mitchell, Charlene, Camden, SC | 12/20/2000
Moore, Larry Earl, Chattanooga, TN | 12/20/2000
Motley, Mary Frances, Wesson, MS | 12/20/2000
Naker, George Walter, Spokane, WA | 12/20/2000
Nearing, Darrell W., Columbia, SC | 12/20/2000
Scott, Altovise L., Jackson, TN | 12/20/2000
Willis, Chester Lovell, Jackson, MS | 12/20/2000
Wilson, Shirley, Jackson, MS | 12/20/2000
Conviction for Health Care Fraud
Ingram, Coltina E., Santee, SC | 12/20/2000
License Revocation/Suspension/Surrendered
Alexander, Kristine R., Bethel, CT | 12/20/2000
Altman, Karen R. Taylor, Blackshear, GA | 12/20/2000
Anderson, Tim Glenn, Spokane, WA | 12/20/2000
Anderson, Cassandra Michelle, Houston, TX | 12/20/2000
Armando, Brenda Denise Wells, Stone Mountain, GA | 12/20/2000
Armistead, Cedric, San Pablo, CA | 12/20/2000
Bailey, Lawrence Ray Jr., Aurora, IN | 12/20/2000
Balmer, Ruth Ann, Bethalto, IL | 12/20/2000
Batish, Rajesh, Frazer, PA | 12/20/2000
Baxter, Kimberly, Newtown, CT | 12/20/2000
Beringer, Vicki L., Mentor, OH | 12/20/2000
Bondoc, Dominga Rivera, Bronx, NY | 12/20/2000
Borland, Richard K., Kennerdell, PA | 12/20/2000
Borum, Curtis Tyrone, Fremont, CA | 12/20/2000
Bryan, Karen Gean Byrd, Macon, GA | 12/20/2000
Brydon, Cathy A., Pocatello, ID | 12/20/2000
Buckner-Hunter, Francis, Los Angeles, CA | 12/20/2000
Burke, Marianne Cunningham, Glendale, CA | 12/20/2000
Cash, Lisa, Midlothian, VA | 12/20/2000
Chenard, Paul Michael, Erie, PA | 12/20/2000
Choi, Jimmy W., Glen Cove, NY | 12/20/2000
Church, Susan E., Walford, IA | 12/20/2000
Courtney, Lara Skye, Hinton, OK | 12/20/2000
Dailey, Douglas O., Grass Valley, CA | 12/20/2000
Darling, Elizabeth Ann, Minneapolis, MN | 12/20/2000
Davis, Larry Duane, Ontario, OR | 12/20/2000
Dowling, Joanna Kathleen, Little Rock, AR | 12/20/2000
Duffield, Cami R., Lawrenceville, NJ | 12/20/2000
Erickson, Bernadette, Des Moines, IA | 12/20/2000
Fleisher, Paul R., New London, CT | 12/20/2000
Frasier, Shirley A., Waterville, ME | 12/20/2000
Frazer, Cheryl, Lebanon, TN | 12/20/2000
Gelpi, Angelo, Bronx, NY | 12/20/2000
German, Mark L., Chino Valley, AZ | 12/20/2000
Givens, Angela M., Richmond, VA | 12/20/2000
Glynn, Tara, Yehm, WA | 12/20/2000
Guerrero-Ramirez, Luis E., Houston, TX | 12/20/2000
Haase, Steven, Scottsdale, AZ | 12/20/2000
Harrington, William H., Colchester, CT | 12/20/2000
Harrison, Jeffrey D., Phoenix, AZ | 12/20/2000
Hendriksen, Rebecca Anne, Las Vegas, NV | 12/20/2000
Henry, Jo Anne S., Cleveland, GA | 12/20/2000
Hickman, Cynthia Marie Rathgeb, Chesapeake, VA | 12/20/2000
Hoeppner, Michelle D., Urbandale, IA | 12/20/2000
Holbrook, Robert Walter, El Paso, TX | 12/20/2000
Hollobaugh, Samuel Lee, Ozark, Al | 12/20/2000
Howe, Tammy L., Burlington, IA | 12/20/2000
Hughes, Stephanie Nola, Fayetteville, GA | 12/20/2000
Inorio, Nancy S., Hamden, CT | 12/20/2000
Isaacs, Joy Rosemary S., St. Paul, MN | 12/20/2000
Jacob, Lisa Rothrauff, Braddock, PA | 12/20/2000
Jones, Patrick Stephen, Roanoke, VA | 12/20/2000
Jordan, Paul Lawrence, Chowchilla, CA | 12/20/2000
Kelly, Warren Roger, Wasco, CA | 12/20/2000
Kocer, Abdul Khaliq, Ft. Oglethorpe, GA | 12/20/2000
Kotajarvi, Cherie Lyn, Krueger Alpharetta, GA | 12/20/2000
Kottler, Barry M., Butner, NC | 12/20/2000
Lake, Cicely C., Richmond, VA | 12/20/2000
Land, Timothy David, Chicago Ridge, IL | 12/20/2000
Landrum, Kurt McKinley, Chicago, IL | 12/20/2000
Langford, Sheshalla M., Mundelein, IL | 12/20/2000
Lara, Susan G., Chicago, IL | 12/20/2000
Lawrence, Gregory Scott, Edwardsville, IL | 12/20/2000
Lee, Jerry Clayton, Chico, CA | 12/20/2000
Liebman, William M., San Rafael, CA | 12/20/2000
Lin, Paul Pao-Shan, Los Angeles, CA | 12/20/2000
Lockridge, Pamela, Robeline, LA | 12/20/2000
Lucas, Stephanie Andre, San Bernardino, CA | 12/20/2000
Lukken, Nickie S., Sioux City, IA | 12/20/2000
Lynch, Gloria J., E. Hartland, CT | 12/20/2000
Madison, Shirley A., Aiken, SC | 12/20/2000
Madison, Antoine Catrele, Joliet, IL | 12/20/2000
Maugle, Barbara Lynn, Springfield, NJ | 12/20/2000
McCall, Randy Allen, Sylva, NC | 12/20/2000
McFarland, Dawn M., S. Portland, ME | 12/20/2000
McGlynn, Megan T., Roslyn, PA | 12/20/2000
McMath, Pamela Lynn, Southgate, MI | 12/20/2000
Millard, Ann Clark, Mocanaqua, PA | 12/20/2000
Minor, Jenny B., Staunton, VA | 12/20/2000
Miranda-Solari, Artemio, Baltimore, MD | 12/20/2000
Mitsui, Masao, Jersey City, NJ | 12/20/2000
Moore, Lebrondia F., East Ridge, TN | 12/20/2000
Naseeruddin, Khaja, Middletown, NY | 12/20/2000
Newman, Robert Edwin II, Fortuna, CA | 12/20/2000
Nunez, Denis A., Lawrenceville, GA | 12/20/2000
Oddo, Stephen Anthony, San Diego, CA | 12/20/2000
Papp, Mary Yvonne, Clyde, TX | 12/20/2000
Paul, Jeremy Jay, Mesa, AZ | 12/20/2000
Perron, L. Andre, Manchester, NH | 12/20/2000
Perry, Michael Paul, San Antonio, TX | 12/20/2000
Perry, Christopher J., E. Providence, RI | 12/20/2000
Peterson, Robert F., Reno, NV | 12/20/2000
Reniff, Betsy Christine, Baldwinsville, NY | 12/20/2000
Rizzo-Collins, Theresa Marie, La Puente, CA | 12/20/2000
Roberts, Amber S., Charlotte, VT | 12/20/2000
Rodriguez, Ricardo, Los Angeles, CA | 12/20/2000
Rogowski, Jerzy Miroslaw, Gouverneur, NY | 12/20/2000
Sandhu, Susan Jane, Hercules, CA | 12/20/2000
Schnur, Lois M., Colo, IA | 12/20/2000
Skipping, Amy K., Dallas, TX | 12/20/2000
Smith Wells, Deborah, Fort Worth, TX | 12/20/2000
Starr, Amy Cathleene, Waco, TX | 12/20/2000
Stiffler, Keith Monroe, Chapel Hill, NC | 12/20/2000
Storks, Janet L., Danville, IA | 12/20/2000
Streetman, Scott J., Destin, FL | 12/20/2000
Struwe, Franklin J. JR., Brooklyn, WI | 12/20/2000
Sunga, Isaias D., Palos Hills, IL | 12/20/2000
Swenson, Shelley Allayne, Buffalo, MN | 12/20/2000
Tartaglia, Tracy Christine, San Francisco, CA | 12/20/2000
Tavey, Bertha, Riverside, CA | 12/20/2000
Terrell, Bernita, Richmond, VA | 12/20/2000
Thomas, Patricia Mary, Rochester, MN | 12/20/2000
Tisdale, Kristen Elizabeth, Lakeville, MN | 12/20/2000
Towery, David B., Newnan, GA | 12/20/2000
Turner-Johnson, Jane, San Francisco, CA | 12/20/2000
Tyler, Etta Mae, Redwood City, CA | 12/20/2000
Valenzuela-Hawkins, Linda Jean, Santa Barbara, CA | 12/20/2000
Vaughan, Thomas Karlton, Midland, GA | 12/20/2000
Velasco, Barbara A., Memphis, TN | 12/20/2000
Wagler, Mistie M., Sigourney, IA | 12/20/2000
Walley, Bruce E., Lac Du Flambeau, WI | 12/20/2000
Warren, John Marcus, Minneapolis, MN | 12/20/2000
Weathers, Joan C., E Hartford, CT | 12/20/2000
Willingham, Debra Kay, Lubbock, TX | 12/20/2000
Wilson, Jane Ellen, Beggs, OK | 12/20/2000
Wilson, Vickie Gay, Mulkeytown, IL | 12/20/2000
Wise, Ronald Eugene, Charlottesville, VA | 12/20/2000
Federal/State Exclusion/Suspension
Economy Medical Supply, Burbank, CA | 12/20/2000
Fraud/Kickbacks
Dashiell-Ernst, Celeste, Point Pleasant, PA | 09/20/2000
Owned/Controlled by Convicted Excluded
Central Nutrition Svcs, Inc., Miami, FL | 12/20/2000
Chicchetti Chiropractic Ctr., Palm Bch Gardens, FL | 12/20/2000
Family Dentistry, Sun Valley, CA | 12/20/2000
H & D Home Health Services, Sun Valley, CA | 12/20/2000
Joseph N. Stan, D.D.S., Inc., Beverly Hills, CA | 12/20/2000
Kaiser Chiropractic Life Ctr., McConnellsburg, PA | 12/20/2000
Lee Family Dentistry, PC, New York, NY | 12/20/2000
Towery Chiropractic Clinic, Newnan, GA | 12/20/2000
Default on Heal Loan
Bailey, David W., Chicago, IL | 11/06/2000
Bath-Barry, Susan M., Gardneerville, NV | 11/01/2000
Benjamin, Roxanne L., Rose City, MI | 12/20/2000
Berk, Richard I., Ann Arbor, MI | 11/07/2000
Bucklar, Charles Jr., Saint Clair, PA | 12/20/2000
Caporaso, Nicholas G., W. Liberty, OH | 12/20/2000
Crews, Marvin, Washington, DC | 12/20/2000
Green, Stephen K., Sr., Kennesaw, GA | 12/20/2000
Green, Edwin Alfred Jr., Brownwood, TX | 12/20/2000
Haderxhanaj, Kujtim I., Anahuac, TX | 12/20/2000
Horner, Cynthia E., Greenville, SC | 12/20/2000
Jeffrey, Pamela Marie, Plano, TX | 12/20/2000
Keck, Julie N., Costa Mesa, CA | 10/17/2000
Kennedy, Michael D., Conroe, TX | 09/18/2000
Kober, Philip M., Madison, WI | 12/20/2000
Krystosik, James D., Mantua, OH | 12/20/2000
Lemons, Warren C., Los Angeles, CA | 12/20/2000
Litten-Ferree, Laura L., Pleasant Grove, UT | 12/20/2000
Louis, Robert P., Brooklyn, NY | 12/20/2000
Mikaelian, Michelle, Bronx, NY | 12/20/2000
Mizell, William L., Franlington, LA | 12/20/2000
Moulds, Dan R. Jr., Chattanooga, TN | 12/20/2000
Moulds, Lora Crystle, Chattanooga, TN | 12/20/2000
Nyquist, Julia R., San Anselmo, CA | 12/20/2000
O'Brien, Robert J., Clementon, NJ | 11/16/2000
Pelmore, Janet C., Louisville, KY | 10/04/2000
Preston, Richard G., Mitchells, VA | 12/20/2000
Richards, Terence J., San Francisco, CA | 12/20/2000
Selman, Alon Duane, Arlington, TX | 12/20/2000

Dated: December 7, 2000.
Calvin Anderson, Jr.,
Director, Health Care Administrative Sanctions, Office of Inspector General.

[FR Doc. 00-31672 Filed 12-12-00; 8:45 am]

BILLING CODE 4150-04-P